DEPARTMENT OF COMMERCE

Foreign-Trade Zones Board

[Order No. 1848]

Expansion of Foreign-Trade Zone 61, San Juan, Puerto Rico

Pursuant to its authority under the Foreign-Trade Zones Act of June 18, 1934, as amended (19 U.S.C. 81a-81u), the Foreign-Trade Zones Board (the Board) adopts the following Order:

Whereas, the Puerto Rico Trade and Export Company, grantee of Foreign-Trade Zone 61, submitted an application to the Board for authority to expand FTZ 61 to include a site in Aguadilla, Puerto Rico, adjacent to the San Juan U.S. Customs and Border Protection port of entry (FTZ Docket 72-2011, filed November 9, 2011);

Whereas, notice inviting public comment has been given in the Federal Register (76 FR 70703-70704, 11/15/2011) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to expand FTZ 61 is approved, subject to the FTZ Act and the Board's regulations, including Section 400.13, and to sunset provisions that would terminate authority on August 31, 2017, for Sites 1, 11-13, 17-22, and on August 31, 2022, for Site 24, where no activity has occurred under FTZ procedures before those dates.

Signed at Washington, DC, this 17th day of August 2012.
Ronald K. Lorentzen,
Acting Assistant Secretary of Commerce for Import Administration, Alternate Chairman, Foreign-Trade Zones Board.
Attest:
Andrew McGilvray,
Executive Secretary.

[FR Doc. 2012-21342 Filed 8-28-12; 8:45 am]

BILLING CODE P